ENVIRONMENTAL PROTECTION AGENCY

[EPA-HQ-OPP-2021-0288; FRL-10741-01-OMS]

Agency Information Collection Activities; Submission to the Office of Management and Budget for Review and Approval; Comment Request; Certification of Pesticide Applicators

AGENCY: Environmental Protection Agency (EPA).

ACTION: Notice.

SUMMARY: The Environmental Protection Agency (EPA) has submitted an information collection request (ICR), Certification of Pesticide Applicators (EPA ICR Number 0155.14, OMB Control Number 2070-0029), to the Office of Management and Budget (OMB) for review and approval in accordance with the Paperwork Reduction Act. This is a proposed revision of the ICR, which is currently approved through February 28, 2023, to include the activities and burdens contained in related ICR (EPA ICR Number 2499.03, OMB Control Number 2070-0196), which is currently approved through July 31, 2025. Public comments were previously requested via the Federal Register on June 30, 2021 during a 60-day comment period. This notice allows for an additional 30-days for public comments.

DATES: Comments may be submitted on or before March 27, 2023.

ADDRESSES: Submit your comments, referencing Docket ID No. EPA-HQ-OPP-2021-0288, to EPA online using www.regulations.gov (our preferred method) or by mail to: EPA Docket Center, Environmental Protection Agency, Mail Code 28221T, 1200 Pennsylvania Ave. NW, Washington, DC 20460. EPA's policy is that all comments received will be included in the docket without change, including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Carolyn Siu, Mission Support Division, Office of Program Support, Office of Chemical Safety and Pollution Prevention, (Mailcode: 7101M), Environmental Protection Agency, 1200 Pennsylvania Ave. NW, Washington, DC 20460; telephone number: (202) 566-1205; email address: siu.carolyn@epa.gov.

SUPPLEMENTARY INFORMATION: This is a proposed extension of the ICR, which is currently approved through February 28, 2023. An agency may not conduct or sponsor and a person is not required to respond ot a collection of information unless it displays a currently valid OMB control number.

Public comments were previously requested via the Federal Register on June, 30, 2021 during a 60-day comment period (86 FR 34745). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: EPA administers certification programs for pesticide applicators under section 11 of the Federal Insecticide, Fungicide, and Rodenticide Act (FIFRA). FIFRA allows EPA to classify a pesticide as “restricted use” if the pesticide meets certain toxicity or risk criteria. The regulations in 40 CFR part 171 include procedures for certification programs for States, Federal agencies, Indian tribes, or U.S. territories who wish to develop and implement their own certification plans and programs, after obtaining EPA approval. This ICR addresses the paperwork activities performed by respondents to comply with training and certification requirements associated with applicators of restricted use pesticides (RUPs). Due to the potential of improperly applied RUPs to harm human health or the environment, pesticides under this classification may be purchased and applied only by “certified applicators” or by persons under the direct supervision of certified applicators.

Currently all 50 states, the District of Columbia, 6 territories, 4 tribes and 5 federal agencies are authorized to run their own certification programs within their jurisdictions, but each agency's certification plan must be approved by EPA before it can be implemented. Agencies authorized by EPA to administer a certification program are collectively referred to as “authorized agencies.”

In areas where no authorized agency has jurisdiction, EPA may administer a certification program directly, (e.g., Federal program). Federal programs require RUP dealers to maintain records of RUP sales and to report and update their names and addresses with the pesticide regulatory agency for enforcement purposes.

This ICR also addresses how registrants of certain pesticide products are expected to perform specific, special paperwork activities, to comply with the terms and conditions of the pesticide registration (e.g., registrants of anthrax-related pesticide products).

Form numbers: EPA Form 8500-17 and EPA Form 8500-17-N.

Respondents/affected entities: Agricultural establishments, pest control officials, pesticide registrants, pesticide dealers, and administrators of environmental protection programs, governmental pest control programs, pesticide applicator certification programs (e.g., authorized agencies), and RUP dealers (only for EPA administrated programs).

Respondent's obligation to respond: Mandatory (FIFRA sections 3 and 11, and 40 CFR part 171).

Estimated number of respondents: 2,305,613 (total).

Frequency of response: On occasion.

Total estimated burden: 3,660,293 hours (per year). Burden is defined at 5 CFR 1320.3(b).

Total estimated cost: $165,109,042 (per year), includes $0 annualized capital or operation & maintenance costs.

Changes in the estimates: There is an increase of 2,280,849 hours in the total estimated respondent burden compared with the ICR currently approved by OMB. This increase is the incorporation of the activities and estimated burden associated with the 2015 final rule that amended 40 CFR part 171, which are currently approved under OMB Control Number 2070-0196 (EPA ICR Number 2499.03).

Courtney Kerwin,
Director, Regulatory Support Division.

[FR Doc. 2023-03819 Filed 2-23-23; 8:45 am]

BILLING CODE 6560-50-P